NATIONAL AERONAUTICS AND SPACE ADMINISTRATION

[Notice (11-099)]

National Space-Based Positioning, Navigation, and Timing (PNT) Advisory Board; Meeting

AGENCY: National Aeronautics and Space Administration (NASA).

ACTION: Notice of meeting.

SUMMARY: In accordance with the Federal Advisory Committee Act (Pub. L. 92-463, as amended), and the President's 2004 U.S. Space-Based Positioning, Navigation, and Timing Policy, the National Aeronautics and Space Administration announces a meeting of the National Space-Based Positioning, Navigation, and Timing Advisory Board.

DATES: Wednesday, November 9, 2011, 9 a.m. to 5 p.m.; and Thursday, November 10, 2011, 9 a.m. to 1 p.m.

ADDRESSES: The Crowne Plaza Old Town Alexandria, 901 North Fairfax, Washington Ballroom, Alexandria, VA 22314.

FOR FURTHER INFORMATION CONTACT: Mr. James J. Miller, Human Exploration and Operations Mission Directorate, National Aeronautics and Space Administration, Washington, DC 20546, (202) 358-4417.

SUPPLEMENTARY INFORMATION: The meeting will be open to the public up to the seating capacity of the room. It is imperative that the meeting be held on these dates to accommodate the scheduling priorities of the key participants. Visitors will be requested to sign a visitor's register. The agenda for the meeting includes the following topics:

• Update on U.S. Space-Based Positioning, Navigation and Timing Policy and Global Positioning System (GPS) modernization.

• Explore opportunities for enhancing the interoperability of GPS with other emerging international Global Navigation Satellite System constellation services.

• Examine emerging trends and requirements for PNT services in U.S. and international arenas through PNT Board technical assessments.

• Prioritize current and planned GPS capabilities and services while assessing future PNT architecture options.

• Review GPS Standard Positioning Service Performance Standards and effects on “non-ICD compliant” receivers in the marketplace.

• Address future challenges to PNT service providers and users such as protecting the emerging role of PNT in cyber networks, including the need for back-ups.

• Identify and respond to the latest developments on radio frequency interference from proposed Mobile Satellite Service Ancillary Terrestrial Component operations.

Dated: October 14, 2011.
P. Diane Rausch,
Advisory Committee Management Officer, National Aeronautics and Space Administration.

[FR Doc. 2011-27256 Filed 10-20-11; 8:45 am]

BILLING CODE 7510-13-P